DEPARTMENT OF HEALTH AND HUMAN SERVICES

National Institutes of Health

Notice of Establishment of the NIH Clinical Center Research Hospital Board

Pursuant to the Federal Advisory Committee Act, as amended (5 U.S.C. App.), the Director, National Institutes of Health (NIH) announces the establishment of the NIH Clinical Center Research Hospital Board (Board) as authorized by 42 U.S.C. 282(b)(16), Section 402(b)(16) of the Public Health Service Act, as amended.

It has been determined that the NH Clinical Center Research Hospital Board is in the public interest in connection with the performance of duties imposed on the National Institutes of Health by law, and that these duties can best be performed through the advice and counsel of the Board.

Inquiries may be directed to Jennifer Spaeth, Director, Office of Federal Advisory Committee Policy, Office of the Director, National Institutes of Health, 6701 Democracy Boulevard, Suite 1000, Bethesda, Maryland 20892 (Mail code 4875), Telephone (301) 496-2123, or spaethj@od.nih.gov .

Dated: May 24, 2016.
Jennifer S. Spaeth,
Director, Office of Federal Advisory Committee Policy.

[FR Doc. 2016-12643 Filed 5-27-16; 8:45 am]

BILLING CODE 4140-01-P